COMMITTEE FOR THE IMPLEMENTATION OF TEXTILE AGREEMENTS

Implementation of an Import Sublimit for Certain Man-Made Fiber Textile Products Produced or Manufactured in Belarus

April 7, 2000.

AGENCY: Committee for the Implementation of Textile Agreements (CITA).

ACTION: Issuing a directive to the Commissioner of Customs implementing a sublimit.

EFFECTIVE DATE: April 14, 2000.

FOR FURTHER INFORMATION CONTACT: Naomi Freeman, International Trade Specialist, Office of Textiles and Apparel, U.S. Department of Commerce, (202) 482-4212. For information on the quota status of this limit, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

Pursuant to the Memorandum of Understanding (MOU) between the Governments of the United States and Belarus, dated February 17, 2000, a notice published in the Federal Register on March 22, 2000 (65 FR 15315) established a new limit for Category 622 of 11,500,000 square meters, effective for the period January 1, 2000 through December 31, 2000. This notice cancelled and superseded the limit set forth in Federal Register notice 64 FR 71982, published on December 22, 1999.

In addition, both governments agreed to establish a sublimit of 1,000,000 square meters for the entry for consumption and withdrawal from warehouse for consumption of glass fiber fabric in Category 622-L weighing 185 grams or less per square meter. This directive implements the Category 622-L sublimit for the period that began on January 1, 2000 and extends through December 31, 2000.

This sublimit may be revised if Belarus becomes a member of the World Trade Organization (WTO) and the United States applies the WTO agreement to Belarus.

A description of the textile and apparel categories in terms of HTS numbers is available in the CORRELATION: Textile and Apparel Categories with the Harmonized Tariff Schedule of the United States (see Federal Register notice 64 FR 71982, published on December 22, 1999).

Troy H. Cribb,
Chairman, Committee for the Implementation of Textile Agreements.

Committee for the Implementation of Textile Agreements

April 7, 2000.

Commissioner of Customs,

Department of the Treasury, Washington, DC 20229.

Dear Commissioner: This directive amends, but does not cancel the directive issued to you on March 16, 2000. That directive concerns imports of certain man-made fiber textile products in Category 622, produced or manufactured in Belarus and exported during the twelve-month period which began on January 1, 2000 and extends through December 30, 2000.

Pursuant to section 204 of the Agricultural Act of 1956, as amended (7 U.S.C. 1854); Executive Order 11651 of March 3, 1972, effective on April 14, 2000, you are directed to prohibit entry into the United States for consumption and withdrawal from warehouse for consumption of glass fiber fabric products in Category 622-L, produced or manufactured in Belarus and exported during the twelve-month period which began on January 1, 2000 and extends through December 31, 2000, in excess of 1,000,000 square meters ¹.

¹ Category 622-L (within Category 622): only HTS numbers 7019.51.9010, 7019.52.4010, 7019.52.9010, 7019.59.4010, and 7019.59.9010. The sublimit has not been adjusted to account for any imports exported after December 31, 1999.

Textile products in Category 622-L which have been exported to the United States prior to January 1, 2000 shall not be subject to the sublimit established in this directive.

This sublimit may be revised if Belarus becomes a member of the World Trade Organization (WTO) and the United States applies the WTO agreement to Belarus.

Import charges to the sublimit will be provided at a later date.

In carrying out the above directions, the Commissioner of Customs should construe entry into the United States for consumption to include entry for consumption into the Commonwealth of Puerto Rico.

The Committee for the Implementation of Textile Agreements has determined that this action falls within the foreign affairs exception of the rulemaking provisions of 5 U.S.C.553(a)(1).

Sincerely,

Troy H. Cribb,
Chairman, Committee for the Implementation of Textile Agreements.

[FR Doc.00-9179 Filed 4-12-00; 8:45 am]

BILLING CODE 3510-DR-F